DEPARTMENT OF LABOR

Employment and Training Administration

Notice of a Virtual Meeting of the Task Force on Apprenticeship Expansion

AGENCY: Employment and Training Administration (ETA), Labor.

ACTION: Notice.

SUMMARY: Pursuant to the Federal Advisory Committee Act (FACA) and its implementing regulations, notice is hereby given to announce the fourth public meeting of the Task Force on Apprenticeship Expansion on Tuesday, April 10, 2018. The Task Force is a FACA committee established by Presidential Executive Order that is charged with identifying strategies and proposals to promote and expand apprenticeships, especially in sectors where apprenticeship programs are insufficient. The Task Force is solely advisory in nature, and will consider reports, comments, research, evidence, and existing practices as appropriate to develop recommendations for inclusion in its final report to the President. To achieve its mission, the Task Force will convene one additional in-person meeting on Thursday, May 10, 2018.

DATES: The meeting will begin at approximately 1:00 p.m. Eastern Daylight Time on Tuesday, April 10, 2018, and adjourn at approximately 3:00 p.m. Eastern Daylight Time.

ADDRESSES: The meeting will convene virtually. Any updates to the agenda and meeting logistics will be posted on the Task Force homepage at: https://www.dol.gov/apprenticeship/task-force.htm.

FOR FURTHER INFORMATION CONTACT: Ms. Laurie Rowe, Senior Policy Advisor to the Secretary, U.S. Department of Labor, 200 Constitution Avenue NW, Washington, DC 20210, Telephone: (202) 693-2772 (this is not a toll-free number).

SUPPLEMENTARY INFORMATION:

I. Virtual Meeting Log-In Instructions

In order to promote openness and increase public participation, webinar and audio conference technology will be used throughout the meeting. Webinar and audio instructions will be sent to all public registrants. Public Registration information will be prominently posted on the Task Force homepage at: https://www.dol.gov/apprenticeship/task-force.htm.

Notice of Intent to Attend the Meeting and Submission of a Written Statement:

Interested members of the public must register for the Task Force meeting by Friday, April 6, 2018, via the public registration website using the following link: https://www.apprenticeshiptaskforce.com/reg/. Additionally, individuals with special needs and/or disabilities that will require special accommodations should send an email to Apprenticeshiptaskforce@dol.gov with the subject line “Special Accommodations for the April 2018 Task Force Meeting” no later than Tuesday, April 3, 2018.

The tentative agenda for this meeting includes the following:

• Updates Since March 2018 Meeting

• Updates from the Subcommittees

• Next Meeting and Next Steps

Also in the interest of increasing public participation, any member of the public who wishes to provide a written statement should send it via electronic mail to Apprenticeshiptaskforce@dol.gov, subject line “Public Comment April 2018 Task Force Meeting.” The agenda and meeting logistics may be updated between the time of this publication and the scheduled date of the Task Force meeting. All meeting updates will be posted to the Task Force website: https://www.dol.gov/apprenticeship/task-force.htm.

Rosemary Lahasky,
Deputy Assistant Secretary for the Employment and Training Administration.

[FR Doc. 2018-05698 Filed 3-20-18; 8:45 am]

BILLING CODE 4510-FR-P